DEPARTMENT OF HOUSING AND URBAN DEVELOPMENT

[Docket No. FR-4837-D-29]

Revocation and Redelegation of Authority Under Section 3 of the Housing and Urban Development Act of 1968

AGENCY: Office of the Assistant Secretary for Fair Housing and Equal Opportunity, HUD.

ACTION: Notice of revocation and redelegation of authority.

SUMMARY: The Assistant Secretary for Fair Housing and Equal Opportunity (FHEO) revokes all redelegations of authority made within the Office of the Assistant Secretary for FHEO under Section 3 of the Housing and Community Development Act of 1968. The Assistant Secretary for FHEO redelegates this authority to the General Deputy Assistant Secretary for FHEO.

EFFECTIVE DATE: July 25, 2003.

FOR FURTHER INFORMATION CONTACT: Linda Thompson, Acting Director, Office for Economic Opportunity, Office of Fair Housing and Equal Opportunity, Department of Housing and Urban Development, 451 Seventh Street, SW., Room 5234, Washington, DC 20410-2000; (202) 708-3685. (This is not a toll-free number.) Hearing- and speech-impaired individuals may access this number through TTY by calling the toll-free Federal Information Relay Service number at 1-800-877-8339.

SUPPLEMENTARY INFORMATION: On October 8, 1993 (58 FR 52534), the Department published a proposed rule that implemented Section 3 of the Housing and Urban Development Act of 1968 (Section 3) (12 U.S.C. 1701u), as amended by the Housing and Community Development Act of 1992 (1992 Act). Since its enactment, Section 3 has served as a statutory basis for promoting the award of jobs and contracts, generated from projects receiving HUD financial assistance, to, respectively, low-income residents and businesses of the areas where the projects to be assisted are located. The 1992 Act significantly revised Section 3, but did not alter the objective of Section 3, which is to provide economic opportunities to low-income persons. The 1992 Act strengthened the Section 3 mandate by clarifying the types of HUD financial assistance, activities, and recipients subject to the requirements of Section 3; identifying the specific individuals and businesses who are the intended beneficiaries of the economic opportunities generated from HUD-assisted activities; and establishing the order of priority in which these individuals and businesses should be recruited and solicited for the employment and other economic opportunities generated from HUD-assisted activities. On June 30, 1994 (59 FR 33866), when the interim rule was published, the functions and responsibilities of the Secretary under Section 3 were delegated to the Assistant Secretary for FHEO. (See 24 CFR 135.7.) The Assistant Secretary for FHEO was further authorized to redelegate these functions and responsibilities to other employees of HUD, except for the authority to issue rules and regulations under 24 CFR part 135.

Accordingly, the Assistant Secretary for FHEO redelegates authority as follows:

Section A. Authority Redelegated

The Assistant Secretary for FHEO redelegates to the General Deputy Assistant Secretary for FHEO all authority under Section 3 of the Housing and Urban Development Act of 1968, except for the authority to issue or waive regulations.

Section B. Authority Revoked

All prior redelegations of authority made within the Office of the Assistant Secretary for FHEO under Section 3 of the Housing and Community Development Act of 1968 are revoked.

Section C. Authority To Redelegate

The authority redelegated to the General Deputy Assistant Secretary may not be further redelegated.

Authority: Section 7(d) of the Department of Housing and Urban Development Act (42 U.S.C. 3535(d)).

Dated: July 25, 2003.
Carolyn Y. Peoples,
Assistant Secretary for Fair Housing and Equal Opportunity.
Floyd O. May,
General Deputy Assistant Secretary for Fair Housing and Equal Opportunity.

[FR Doc. 03-19789 Filed 8-1-03; 8:45 am]

BILLING CODE 4210-28-P